DEPARTMENT OF HEALTH AND HUMAN SERVICES

Centers for Disease Control and Prevention

[Program Announcement 02115]

National Asthma Health Education Enhancement Program; Notice of Availability of Funds

A. Purpose

The Centers for Disease Control and Prevention (CDC) announces the availability of fiscal year (FY) 2002 funds for a cooperative agreement program for National Asthma Health Education Enhancement. This program addresses the “Healthy People 2010” focus areas of Environmental Health and Respiratory Diseases.

The purpose of the program is to strengthen the nation's capacity to carry out public health activities in the area of asthma education. The objectives are to: (1) Disseminate educational information on a national level to families impacted by asthma; (2) help families learn to cope with challenges they face due to having a child with asthma; and (3) serve as a resource for families impacted by asthma.

Organizations that are well-established and have a history and demonstrated capacity of providing asthma education to a national audience are targeted with this announcement. This announcement is not intended to build capacity of start up organizations.

Measurable outcomes of the program will be in alignment with one or more of the performance goals of the Government Performance Results Act: increasing the understanding of the relationship between environmental exposures and health effects.

1. Use of Funds

No research may be conducted as a part of this cooperative agreement.

2. Funding Preferences

Preference may be given to organizations who have demonstrated their capacity and ability to reach a national audience with asthma education materials that were developed within the National Asthma Education and Prevention Program (NAEPP) guidelines.

B. Eligible Applicants

Assistance will be provided only to the applicants that are well-established national, non-profit organizations with experience in development and dissemination of asthma educational materials and whose membership includes families of children with asthma or others affected by the disease.

To be eligible, applicants must:

1. Demonstrate that your organization's mission is explicitly committed to improving the lives of families impacted by asthma, or other similar lung diseases, through the provision of timely, accurate, and useful information about the disease and how it can be controlled. You must have experience providing asthma education to a nationwide audience. The foregoing may be demonstrated by submission of your charter, articles of incorporation, or other governing documents.

2. Demonstrate that your organization is non-profit and recognized as tax exempt under Section 501(c)(3) of the Internal Revenue Code. This may be demonstrated through inclusion of your Internal Revenue Service determination letter.

3. Demonstrate your organization has capacity and experience providing educational services to families with asthma on a nationwide basis. This may be demonstrated through letters of support.

4. Demonstrate that you have a national membership of families or a national network of local organizations. This may be done through a letter from your organization's leadership which describes your national network/membership (number of members and national coverage of the membership).

This information should be placed directly behind the face page (first page) of your application. Applications that fail to submit evidence requested above will be considered non-responsive and returned without review.

Note: Title 2 of the United States Code section 1611 states that an organization described in section 501(c)(4) of the Internal Revenue Code that engages in lobbying activities is not eligible to receive Federal funds constituting an award, grant or loan.

C. Availability of Funds

Approximately $300,000 is available in FY 2002, to fund approximately two to three awards. It is expected that the award will range from $100,000 to $150,000. It is expected that the awards will begin on or about September 1, 2002, and will be made for a 12-month budget period within a project period of up to three years. Funding estimates may change.

Continuation awards within an approved project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities

a. Review and disseminate asthma currently available education information to reach your members and other community members on both a local and national level. Materials must be reviewed to insure they are in accordance with sound asthma management practices and appropriate NAEPP Guidelines.

b. In cases where appropriate educational information does not exist and a need for such material is identified, develop scientifically-based, accurate, user-friendly, culturally-appropriate educational materials to be used to educate your members and other community members, or any targeted group for which a gap in currently available information is identified. Literacy level and appropriate demographics of your target audience should be considered.

c. Conduct community and outreach education at the local level, aimed at your members and community members affected by asthma.

d. Collaborate with partners, including CDC, and appropriate asthma education organizations, to insure that best practices are used in the development and dissemination of asthma education materials for your target group(s).

e. For all of the above activities “a. through d.” develop and implement an evaluation plan which measures the effectiveness of your activities involved in each step indicated.

2. CDC Activities

a. Collaborate with recipients in the development of scientifically-based, accurate, user-friendly, culturally-appropriate educational information concerning asthma, reaching a variety of literacy levels and considering appropriate demographic information for the target audience. Ensure coordination of this activity among all recipients and facilitate information sharing.

b. Review recipients' identification of currently available educational materials and gap analysis. Ensure coordination of this activity among all recipients and facilitate information sharing and to eliminate duplication of efforts.

c. Facilitate and coordinate meetings to bring together national groups as collaborators, as appropriate.

d. Collaborate with recipients on the development of an appropriate evaluation plan which measures the effectiveness of recipient activities involved in each step indicated, and approve the plan.

e. Coordinate recipient activities with asthma education partners (such as the Robert Wood Johnson Foundation's Allies Against Asthma resource bank) to insure no duplication of activities occurs.

E. Content

Letter of Intent (LOI)

A non-binding LOI is requested for this program. The Program Announcement title and number must appear in the LOI. The narrative should be no more than one, double-spaced page, printed on one side, with one inch margins, and unreduced font. It should identify the name of your proposed project director and name of the organization. Your letter of intent will be used to allow CDC to determine the level of interest in the announcement, to plan the review more efficiently.

Applications

The Program Announcement title and number must appear in the application kit. Use the information in the Program Requirements, Other Requirements, and Evaluation Criteria sections to develop the application content. Your application will be evaluated on the criteria listed, so it is important to follow them in laying out the program plan.

The narrative should be no more than 20 pages, double spaced, printed on one side, with one inch margins, and unreduced font. The narrative should consist of, at a minimum, a Plan, Objectives, Methods, Evaluation and Budget.

F. Submission and Deadline

Letter of Intent (LOI)

On or before May 15, 2002, submit the LOI to the Grants Management Specialist identified in the “Where to Obtain Additional Information” section of this announcement.

Application

Submit the original and two copies of PHS 5161-1 (OMB Number 0920-0428). Forms are available in the application kit and at the following Internet address: www.cdc.gov/od/pgo/forminfo.htm.

Application forms must be submitted in the following order:

Cover Letter

Table of Contents

Application

Eligibility Documents

Budget Information Form

Checklist

Assurances

Certifications

Disclosure Form

Indirect Cost Rate Agreement (if applicable)

Narrative

On or before 5:00 PM Eastern Time on June 24, 2002, submit the application to: Technical Information Management Section, PA #02115, Procurement and Grants Office, Centers for Disease Control and Prevention (CDC), 2920 Brandywine Road, Room 3000, Atlanta, GA 30341-4146

Deadline: Applications shall be considered as meeting the deadline if they are received before 5:00 PM Eastern Time on the deadline date.

Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will, upon receipt of proper documentation, consider the application as having been received by the deadline.

Applications which do not meet the above criteria will not be eligible for competition and will be discarded. Applicants will be notified of their failure to meet the submission requirements.

G. Evaluation Criteria

Applicants are required to provide Measures of Effectiveness that will demonstrate the accomplishment of the various identified objectives of the cooperative agreement. Measures of Effectiveness must relate to the performance goal as stated in section A. “Purpose” of this announcement. Measures must be objective and quantitative and must measure the intended outcome. These Measures of Effectiveness shall be submitted with the application and shall be an element of evaluation.

Each application will be evaluated individually against the following criteria by an independent review group appointed by CDC.

1. History and Experience (30 points)

The extent to which the proposal clearly demonstrates the applicant's solid reputation and history of serving families affected by asthma. The proposal should demonstrate that the applicant has a broad range of knowledge and expertise in the field of asthma, as well as significant years of experience in the dissemination and application of this knowledge and expertise. The proposal should also demonstrate that the applicant's membership is comprised of families affected by asthma and that this membership is national in scope.

2. Proposed Program (30 points)

The extent to which the proposal clearly demonstrates the applicant's understanding of the issues surrounding asthma and asthma education activities and addresses gaps in the current state of asthma educational materials and activities. The proposal demonstrates that the applicant has a clear understanding of the gaps and needs and has a clear plan of activities which will address these gaps. The applicant must demonstrate their educational materials are in adherence to the NAEPP guidelines and when these guidelines are updated, materials are appropriately updated.

3. Evaluation Plan (30 points)

The extent to which the applicant describes a realistic plan to accurately measure the effectiveness of their activities and which has mechanisms to insure quality improvement occurs over the life of the project.

4. Facilities, Staff, and Resources (10 points)

The extent to which the applicant can provide adequate facilities, staff and/or collaborators, and resources to accomplish the proposed goal(s) and objectives during the project period. The extent to which the applicant demonstrates staff and/or collaborator availability, expertise, previous experience, and capacity to perform the undertaking successfully.

5. Budget (not scored)

The extent to which the proposal demonstrates appropriateness and justification of the requested budget relative to the activities proposed.

H. Other Requirements

Technical Reporting Requirements

Provide CDC with original plus two copies of:

1. Semiannual progress reports (The progress report will include a data requirement that demonstrates measures of effectiveness.) The progress report shall include the following items.

a. A brief project description;

b. A comparison of actual accomplishments to the goals and objectives established for the period;

c. In the case that established goals and objectives may not be accomplished or are delayed, documentation of both the reason for the deviation and the anticipated corrective action or a request for deletion of the activity for the project;

d. A financial summary of obligated dollars to date as a percentage of total available dollars;

e. Other pertinent information (i.e. curriculum vitae for new key personnel).

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I of the announcement.

AR-7 Executive Order 12372 Review

AR-8 Public Health System Reporting Requirements

AR-10 Smoke-Free Workplace Requirements

AR-11 Healthy People 2010

AR-12 Lobbying Restrictions

AR-14 Accounting System Requirements

AR-21 Small, Minority, Women-Owned Businesses

I. Authority and Catalog of Federal Domestic Assistance Number

This program is authorized under section 301 and 317(k)(2) of the Public Health Service Act, [42 U.S.C. 241 and 247b(k)(2)], as amended. The Catalog of Federal Domestic Assistance number is 93.283.

J. Where to Obtain Additional Information

This and other CDC announcements can be found on the CDC home page Internet address—http://www.cdc.gov Click on “Funding” then “Grants and Cooperative Agreements.”

If you have questions after reviewing the contents of all the documents, business management technical assistance may be obtained from:

Sonia Roswell, Grants Management Specialist

Acquisition Assistance Branch B, Procurement and Grants Office

Centers for Disease Control and Prevention

Announcement 02115

2920 Brandywine Road, Room 3000

Atlanta, GA 30341-4146

Telephone number (770) 488-2724

email address srowell@cdc.gov

For program technical assistance, contact:

Sheri Disler, Public Health Advisor

National Center for Environmental Health

Centers for Disease Control and Prevention

1600 Clifton Road, NE, MS E-17

Atlanta, GA 30333

Telephone number (404) 498-1018

email address sdisler@cdc.gov

Dated: April 30, 2002.
Sandra R. Manning, CGFM,
Director, Procurement and Grants Office, Centers for Disease Control and Prevention (CDC).

[FR Doc. 02-11117 Filed 5-3-02; 8:45 am]

BILLING CODE 4163-18-P